DEPARTMENT OF EDUCATION

[Docket No. ED-2018-ICCD-0045]

Agency Information Collection Activities; Extension Grants Funding Opportunity for FY 2011 and FY 2012 Promise Neighborhoods Implementation Grantees (84.215N)

AGENCY: Office of Innovation and Improvement (OII), Department of Education (ED).

ACTION: Notice.

SUMMARY: In accordance with the Paperwork Reduction Act of 1995, ED is requesting the Office of Management and Budget (OMB) to conduct an emergency review of a new information collection.

DATES: Approval by the OMB has been requested by before April 18, 2018.

ADDRESSES: To access and review all the documents related to the information collection listed in this notice, please use http://www.regulations.gov by searching the Docket ID number ED-2018-ICCD-0045. Written requests for information submitted by postal mail or delivery should be addressed to the Director of the Information Collection Clearance Division, U.S. Department of Education, 400 Maryland Avenue SW, LBJ, Room 216-44, Washington, DC 20202-4537.

FOR FURTHER INFORMATION CONTACT: For specific questions related to collection activities, please contact Karen Dorsey Hargrove, 202-453-6695.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Extension Grants Funding Opportunity for FY 2011 and FY 2012 Promise Neighborhoods Implementation Grantees (84.215N).

OMB Control Number: 1855—New.

Type of Review: A new information collection.

Respondents/Affected Public: Private Sector.

Total Estimated Number of Annual Responses: 12.

Total Estimated Number of Annual Burden Hours: 391.

Abstract: The Consolidated Appropriations Act 2018 (the Appropriations Act) Public Law 115-141 provides funding extension funds for Promise Neighborhoods (PN) grants funded in fiscal year (FY) 2011 and FY 2012. The Appropriations Act states that awards would be made on a competitive basis to FY 2011 and FY 2012 PN implementation grantees that have demonstrated the ability to collect, track, and report longitudinal data on performance indicators (established by the Department and required to be reported on annually as part of the initial implementation grant); have demonstrated the most positive and promising results during their initial implementation grant based on such indicators (emphasizing getting children ready to learn); have demonstrated a commitment to operating in the most under-served and under-resourced, including rural areas; and propose continuing to pursue ambitious goals from the initial implementation during an extension of that grant.

Additional Information: An emergency clearance approval for the use of the system is described below due to the following conditions:

This is a request for emergency clearance of the funding announcement of the Promise Neighborhoods (PN) Extension Grant. The funding announcement is the instrument through which the Department will comply with the Consolidated Appropriations Act 2018 (the Appropriations Act) Public Law 115-141. The Appropriations Act directs the Department to make extension awards to fiscal year (FY) 2011 and FY 2012 Promise Neighborhoods (PN) implementation grantees. The Appropriations Act states that “. . . no later than June 1, 2018 (emphasis added), the Secretary shall award extension grants under such section on a competitive basis to implementation grantees that have demonstrated the ability to collect, track, and report longitudinal data on performance indicators established by the Department and required to be reported on annually as part of the initial implementation grant; demonstrated the most positive and promising results during their initial implementation grant based on such indicators, emphasizing getting children ready to learn; demonstrated a commitment to operating in the most under-served and under-resourced, including rural, areas; and propose continuing to pursue ambitious goals during an extension of that grant.” In order to comply with the Appropriations Act the Office of Innovation and Improvement will need to design a program specific instrument to conduct a competition for the PN extension funds. Pursuant to 5 CFR 1320.13, the Department requests that OMB review this information collection under its emergency procedures. This request for emergency clearance is based on missing a statutory deadline. The Appropriations Act requires that awards be made no later than June 1, 2018. The Appropriations Act became public law on March 23, 2018. There are 70 calendar days from March 23, 2018 to May 31, 2018. The June 1st date does not allow for a 30-day public comment period and 30-day OMB review period. Due to this shortened approval period we are also requesting no public comment period.

Dated: April 16, 2018.
Tomakie Washington,
Acting Director, Information Collection Clearance Division, Office of the Chief Privacy Officer, Office of Management.

[FR Doc. 2018-08209 Filed 4-18-18; 8:45 am]

BILLING CODE 4000-01-P